DEPARTMENT OF LABOR

Mine Safety and Health Administration

Petitions for Modification

The following parties have filed petitions to modify the application of mandatory safety standards under section 101(c) of the Federal Mine Safety and Health Act of 1977.

1. Centralia Mining Company

[Docket No. M-2000-001-C]

Centralia Mining Company, 1015 Big Hanaford Road, Centralia, Washington 98531 has filed a petition to modify the application of 30 CFR 77.1605(k) (loading and haulage equipment; installations) to its Centralia Coal Mine (I.D. No. 45-00416) located in Lewis County, Washington. The petitioner proposes the following alterative method as it relates to access to dike/impoundments. The petitioner proposes to: (i) Install locked gates at entrance points to dike/impoundment access; (ii) post warning signs that the dike impoundment is not bermed; (iii) install at least three delineators along the perimeter of the elevated roadway to indicate that both directions of travel of the reflective surfaces along each elevated shoulder is visible to the driver and spaced at intervals to indicate the edges and attitude of the roadway; and (iv) post a speed limit of 10 mph for elevated unbermed portions of the roadway. In the event surface traction is impaired by weather conditions, corrective measures will be taken for improvement. The petitioner asserts that application of the standard will result in diminution of safety to the miners. In addition, the petitioner asserts that the proposed alternative method would provide at least the same measure of protection as the mandatory standard.

2. Sidney Coal Company, Inc.

[Docket No. M-2000-002-C]

Sidney Coal Company, Inc., 115 North Big Creek Road, Sidney, Kentucky 41564 has filed a petition to modify the application of 30 CFR 75.1902(d)(1) (underground diesel fuel storage-general requirements) to its Mine #1 (I.D. No. 15-07082) located in Pike County, Kentucky. The petitioner requests a modification of the standard to permit its underground fuel storage facility to remain at the present location and for safety concerns, make the following changes and adjustments so that: (i) The fuel tank is offset 35 feet from any track or transportation; (ii) the storage facility is out of direct line of flatcars, mantrips and other equipment that is moving up or down the slope; (iii) the facility is ventilated directly into the return air course. In addition, the petitioner would equip the facility with a fire suppression system and other safety features, fireproof the facility, inspect the facility on a daily basis, and add a carbon monoxide sensor. The petitioner asserts that the proposed alternative method would provide at least the same measure of protection as the mandatory standard.

3. Big Ridge, Inc.

[Docket No. M-2000-003-C]

Big Ridge, Inc., 29 West Raymond Street, Harrisburg, Illinois 62946 has filed a petition to modify the application of 30 CFR 75.1700 (oil and gas wells) to its Big Ridge Mine (I.D. No. 11-02997) located in Saline County, Illinois. The petitioner proposes techniques and procedures to plug and mine in close proximity to, or through oil and gas wells and to notify the District Manager or designee: prior to mining within 300 feet of the well; in sufficient time to have an opportunity to have representatives present, and; when a specific plan is developed for mining through each well. The petitioner proposes The petitioner asserts that the proposed alternative method would provide at least the same measure of protection as the mandatory standard.

4. Aracoma Coal Company

[Docket No. M-2000-004-C]

Aracoma Coal Company, P.O. Box 484, Omar, West Virginia 25670 has filed a petition to modify the application of 30 CFR 75.1002 (location of trolley wires, trolley feeder wires, high-voltage cables and transformers) to its Aracoma Alma Mine No. 1 (I.D. No. 46-08801) located in Logan County, West Virginia. The petitioner proposes to use a 2,400 volt continuous mining system in by the last open crosscut and within 150 feet from pillar workings using the specific terms and conditions listed in this petition for modification. The petitioner asserts that the proposed alternative method would provide at least the same measure of protection as the mandatory standard.

5. Independence Coal Company, Inc.

[Docket No. M-2000-005-C]

Independence Coal Company, Inc., HC 78 Box 1800, Madison, West Virginia 25130 has filed a petition to modify the application of 30 CFR 75.350 (air courses and belt haulage entries) to its Cedar Grove Mine No. 1 (I.D. No. 46-08603) located in Raleigh County, West Virginia. The petitioner proposes to use air coursed through the conveyor belt entry to ventilate active working places. The petitioner proposes to install a low-level carbon monoxide monitoring system as an early warning fire detection system in all belt entries used to course intake air to a working place. The petitioner asserts that the proposed alternative method would provide at least the same measure of protection as the mandatory standard.

6. Marrowbone Development Company

[Docket No. M-2000-006-C]

Marrowbone Development Company, P.O. Box 119, Naugatuck, West Virginia 25685, has filed a petition to modify the application of 30 CFR 75.1002 (location of trolley wires, trolley feeder wires, high-voltage cables and transformers) to its Eastern Mingo Coal Company Drautz Mine (I.D. No. 46-08815) located in Mongo County, West Virginia. The petitioner proposes to use 2,400-volt AC continuous mining equipment at its Drautz Mine. The petitioner asserts that the proposed alternative method would provide at least the same measure of protection as the mandatory standard.

7. Sidney Coal Company, Inc.

[Docket No. M-2000-007-C]

Sidney Coal Company, Inc., 115 North Big Creek Road, P.O. Box 299, Sidney, Kentucky 41564 has filed a petition to modify the application of 30 CFR 75.507 (power connection points) for its following subsidiaries: Clean Energy Mining Company, Mine #1 (I.D. No. 15-10753); Freedom Energy Mining Company, Mine #1 (I.D. No. 15-07082); Pegs Branch Energy Mining Company, Mine No. 1 (I.D. No. 15-17541); Rockhouse Energy Mining Company, Rockhouse Mine #1 (I.D. No. 15-17651); and Solid Energy Mining Company, Mine #1 (I.D. No. 15-07475) all located in Pike County, Kentucky. The petitioner proposes to use electronic total station surveying instruments in or inby the last open crosscut or in the return airway, take gas checks at 20 minute intervals upwind of the location of the instrument and prior to turning the equipment on or off, change the batteries in or inby the last open crosscut or in return air, train all miners before they enter the mine on how to use the equipment, and use the equipment only in areas where methane concentration levels are below one percent. The petitioner asserts that the proposed alternative method would provide at least the same measure of protection as the mandatory standard.

8. Island Creek Coal Company

[Docket No. M-2000-008-C]

Island Creek Coal Company, Consol Plaza, 1800 Washington Road, Pittsburgh, Pennsylvania 15241-1421 has filed a petition to modify the application of 30 CFR 75.1100-2(b) (quantity and location of firefighting equipment) to its VP-8 Mine (I.D. No. 44-03795) located in Buchanan County, Virginia. The petitioner proposes to install a waterline in an entry adjacent to the conveyor belt entry on retreating longwall equipped with fire hydrants spaced no more than 310 feet apart. The petitioner is currently operating under a granted petition for modification (M-94-68-C) allowing for hydrants spaced no more than 270 feet apart in these entries. The petitioner asserts that the proposed alternative method would provide at least the same measure of protection as the mandatory standard.

9. Performance Coal Company

[Docket No. M-2000-009-C]

Performance Coal Company, P.O. Box 69, Naoma, West Virginia 25140 has filed a petition to modify the application of 30 CFR 75.350 (air courses and belt haulage entries) to its Upper Big Branch Mine-South (I.D. No. 46-08436) located in Raleigh County, West Virginia. The petitioner proposes to use air coursed through the belt haulage entry to ventilate active working places. The petitioner proposes to install a carbon monoxide monitoring system as an early warning fire detection system in all belt entries used to carry intake air to a working place. The petitioner asserts that the proposed alternative method would provide at least the same measure of protection as the mandatory standard.

10. Aracoma Coal Company

[Docket No. M-2000-010-C]

Aracoma Coal Company, P.O. Box 484, Omar, West Virginia 25670 has filed a petition to modify the application of 30 CFR 75.350 (air courses and belt haulage entries) to its Aracoma Alma Mine No. 1 (I.D. No. 46-08801) located in Logan County, West Virginia. The petitioner proposes to use air coursed through the belt haulage entry to ventilate active working places. The petitioner proposes to install a carbon monoxide monitoring system as an early warning fire detection system in all belt entries used to carry intake air to a working place. The petitioner asserts that the proposed alternative method would provide at least the same measure of protection as the mandatory standard.

11. Alex Energy Coal Company

[Docket No. M-2000-011-C]

Alex Energy Coal Company, P.O. Box 857, Summersville, West Virginia 26651 has filed a petition to modify the application of 30 CFR 75.350 (air courses and belt haulage entries) to its Jerry Fork Eagle Mine (I.D. No. 46-08787) located in Nicholas County, West Virginia. The petitioner proposes to use air coursed through the belt haulage entry to ventilate active working places. The petitioner proposes to install a carbon monoxide monitoring system as an early warning fire detection system in all belt entries used to carry intake air to a working place. The petitioner asserts that the proposed alternative method would provide at least the same measure of protection as the mandatory standard.

Request for Comments

Persons interested in these petitions are encouraged to submit comments via e-mail to “comments@msha.gov,” or on a computer disk along with an original hard copy to the Office of Standards, Regulations, and Variances, Mine Safety and Health Administration, 4015 Wilson Boulevard, Room 627, Arlington, Virginia 22203. All comments must be postmarked or received in that office on or before March 29, 2000. Copies of these petitions are available for inspection at that address.

Dated: February 14, 2000.
Carol J. Jones,
Acting Director, Office of Standards, Regulations, and Variances.

[FR Doc. 00-4545 Filed 2-25-00; 8:45 am]

BILLING CODE 4510-43-P